FEDERAL COMMUNICATIONS COMMISSION

[DA 03-1735]

Audit of Certain 220-222 MHz Band Licenses

AGENCY: Federal Communications Commission.

ACTION: Notice.

SUMMARY: In this document the Wireless Telecommunications Bureau (Bureau) announces it has mailed audit letters to licensees holding authorizations for certain site-specific licenses operating in three commercial radio services in the 220-222 MHz band.

DATES: Response is needed by June 13, 2003.

ADDRESSES: http://www.wireless.fcc.gov/uls.

FOR FURTHER INFORMATION CONTACT: Denise D. Walter, Commercial Wireless Division, at 202-418-0620.

SUPPLEMENTARY INFORMATION: This is a summary of the Federal Communications Commission's Public Notice, DA 03-1735, released on May 20, 2003. The full text of this document is available for inspection and copying during normal business hours in the Federal Communications Commission Reference Center, 445 12th Street, SW., Washington, DC 20554. The complete text may be purchased from the Federal Communications Commission's copy contractor, Qualex International, 445 12th Street, SW., Room CY-B402, Washington, DC 20554. The full text may also be downloaded at http://wireless.fcc.gov. Alternative formats are available to persons with disabilities by contacting Brian Millin at (202) 418-7426 or TTY (202) 418-7365 or at bmillin@fcc.gov.

1. On May 14, 2003, the Federal Communications Commission's (FCC) Wireless Telecommunications Bureau (Bureau) began its license audit of the operational status of certain site-specific licenses operating in the 220-222 MHz band in the following radio services: QT (non-nationwide 5-channel trunked systems), QD (non-nationwide data), and QO (non-nationwide other).

2. Every licensee in these radio services must respond and certify, by June 13, 2003, that its authorized station(s) has not discontinued operations for one year or more.

3. Audit letters were mailed to the licensees at their address of record. If a licensee received more than one audit letter, they must respond to each letter sent by the Commission in order to account for all of its call signs that are part of the audit. Licensees can use the Audit Search at http://wireless.fcc.gov/licensing/audits/220 to determine if a particular call sign is part of the audit. If the Audit Search shows a letter was mailed, the licensee is required to respond to the audit even though the audit letter was not received. For instructions on how to proceed in this instance, licensees should call the Commission at 717-338-2888 or 888-CALLFCC (888-225-5322) and select option 2.

4. The process for responding to the audit was included in the audit letter. A response is mandatory and must be submitted electronically by June 13, 2003. Failure to provide a timely response may result in the Commission presuming that the station has been non-operational for one year or more, and thus the license may be presumed to have automatically cancelled. Failure to provide a timely response may also result in a enforcement action, including monetary forfeiture, pursuant to section 503(b)(1)(B) of the Communications Act and 47 CFR 1.80(a)(2).

Federal Communications Commission.
William W. Kunze,
Chief, Commercial Wireless Division, Wireless Telecommunications Bureau.

[FR Doc. 03-13194 Filed 5-27-03; 8:45 am]

BILLING CODE 6712-01-P